DEPARTMENT OF ENERGY

Environmental Management Site-Specific Advisory Board, Northern New Mexico; Meeting

AGENCY: Department of Energy.

ACTION: Notice of open meeting.

SUMMARY: This notice announces a meeting of the Environmental Management Site-Specific Advisory Board (EM SSAB), Northern New Mexico. The Federal Advisory Committee Act (Pub. L. 92-463, 86 Stat. 770) requires that public notice of this meeting be announced in the Federal Register.

DATES: Wednesday, July 27, 2011 from 1 p.m.-7 p.m.

ADDRESSES: Holiday Inn and Suites, 60 Entrada Drive, Los Alamos, New Mexico.

FOR FURTHER INFORMATION CONTACT: Menice Santistevan, Northern New Mexico Citizens' Advisory Board (NNMCAB), 1660 Old Pecos Trail, Suite B, Santa Fe, NM 87505. Phone (505) 995-0393; Fax (505) 989-1752 or E-mail: msantistevan@doeal.gov.

SUPPLEMENTARY INFORMATION: Purpose of the Board: The purpose of the Board is to make recommendations to DOE-EM and site management in the areas of environmental restoration, waste management, and related activities.

Tentative Agenda

1:00 p.m. Call to Order by Co-Deputy Designated Federal Officers, Ed Worth and Lee Bishop

Establishment of a Quorum: Roll Call and Excused Absences, Lorelei Novak

Welcome and Introductions, Ralph Phelps

Approval of Agenda and May 12, 2011 Meeting Minutes

1:30 p.m. Public Comment Period

1:45 p.m. Old Business

• Written Reports

• Other Items

2:00 p.m. New Business

• Report on Semi-Annual EM SSAB Chairs' Meeting

• Report from Nominating Committee

• Discussion of NNMCAB Meeting Locations for 2012

• Other items

2:45 p.m. Items from DOE, Ed Worth and Lee Bishop

• Update on NNMCAB Office Move

• Other items

3:15 p.m. Break

3:30 p.m. Presentation on Long-Term Stewardship

4:30 p.m. Discussion of Draft Recommendations to DOE

5:00 p.m. Dinner Break

6:00 p.m. Public Comment Period

6:15 p.m. Consideration and Action on Draft Recommendation(s), Ralph Phelps

6:45 p.m. Open Forum for Board Members

7:00 p.m. Adjourn, Ed Worth and Lee Bishop

Public Participation: The EM SSAB, Northern New Mexico, welcomes the attendance of the public at its advisory committee meetings and will make every effort to accommodate persons with physical disabilities or special needs. If you require special accommodations due to a disability, please contact Menice Santistevan at least seven days in advance of the meeting at the telephone number listed above. Written statements may be filed with the Board either before or after the meeting. Individuals who wish to make oral statements pertaining to agenda items should contact Menice Santistevan at the address or telephone number listed above. Requests must be received five days prior to the meeting and reasonable provision will be made to include the presentation in the agenda. The Deputy Designated Federal Officer is empowered to conduct the meeting in a fashion that will facilitate the orderly conduct of business. Individuals wishing to make public comments will be provided a maximum of five minutes to present their comments.

Minutes: Minutes will be available by writing or calling Menice Santistevan at the address or phone number listed above. Minutes and other Board documents are on the Internet at: http://www.nnmcab.org/.

Issued at Washington, DC on June 14, 2011.
LaTanya R. Butler,
Acting Deputy Committee Management Officer.

[FR Doc. 2011-15412 Filed 6-20-11; 8:45 am]

BILLING CODE 6405-01-P